DEPARTMENT OF THE INTERIOR

National Park Service

[NPS-WASO-NAGPRA-NPS0038467; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of unassociated funerary objects or objects of cultural patrimony and that have a cultural affiliation with the Indian Tribes or Native Hawaiian organizations in this notice.

DATES: Repatriation of the cultural items in this notice may occur on or after September 9, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of two cultural items have been requested for repatriation. The one unassociated funerary object is a bag of cremated ceramic potsherds. In 1985 the UCR Archaeological Research Unit was hired to assess several archaeological sites along Highway 111 in La Quinta, Riverside County for the Desert Sands Unified School District ahead of potential grading. During their pedestrian survey the archaeologists assessed archaeological sites CA-RIV-1180, CA-RIV-1980, CA-RIV-1981, and CA-RIV-1982. They observed cremated human remains on the surface of CA-RIV-1980 and contacted the chairman of a Cahuilla band, who advised that the remains should not be disturbed. The archaeologists did, however, collect some pottery sherds that were found in association with the cremation.

The one object of cultural patrimony is a large ceramic olla. In the Winter of 1972, Dr. Wilke of the University of California, Riverside, Archaeological Research Unit discovered a large ceramic olla containing a cache of decomposed honey mesquite beans in an unnamed canyon in the Mecca Hills between Thermal and Painted Canyon. The olla was discovered in archaeological site CA-RIV-519, which was a windswept rock-shelter affected by years of rain and erosion. Wilke decided to remove the olla to prevent further damage or possible looting by amateur pothunters. Radiocarbon analysis of the mesquite beans indicated a date of 200 +/− 100 years old. This approximate time period corresponds with the US Land Offices Survey recording of at least five Cahuilla villages situated near the base of the Mecca Hills.

Determinations

The University of California, Riverside has determined that:

• The one unassociated funerary object described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one object of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Torrez Martinez Desert Cahuilla Indians, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 9, 2024. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: August 1, 2024.
Melanie O'Brien,
Manager, National NAGPRA Program.

[FR Doc. 2024-17880 Filed 8-9-24; 8:45 am]

BILLING CODE 4312-52-P